DEPARTMENT OF HEALTH AND HUMAN SERVICES

Administration for Children and Families

Submission for OMB Review; Grants to States for Access and Visitation, OMB #0970-0204

AGENCY: Division of Program Innovation, Office of Child Support Enforcement, Administration for Children and Families, HHS.

ACTION: Request for public comment.

SUMMARY: The Division of Program Innovation (DPI), Office of Child Support Enforcement (OCSE), Administration for Children and Families (ACF) is requesting a 3-year extension of the Access and Visitation Survey: Annual Report (OMB #0970-0204, expiration 10/31/2021). There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The grantee and/or sub-grantee submits the spreadsheet and survey yearly. Information is used by OCSE as the primary means for adhering to the statutory (Sec. 469B. [42 U.S.C. 669b]) and regulatory (45 CFR part 303) requirements for recipients of “Grants to States for Access and Visitation.”

Respondents: State Child Access and Visitation Programs and state and/or local service providers.

Annual Burden Estimates
Instrument | Total number of respondents | Annual number of responses per respondent | Average burden hours per response | Annual burden hours
Online Portal Survey by States and Jurisdictions | 54 | 1 | 16 | 864
Survey of local service grantees | 296 | 1 | 16 | 4,736

Estimated Total Annual Burden Hours: 5,600.

Authority: Sec.469B [42 U.S.C.669b]; 45 CFR part 303.

Mary B. Jones,
ACF/OPRE Certifying Officer.

[FR Doc. 2021-09452 Filed 5-4-21; 8:45 am]

BILLING CODE 4184-41-P